ENVIRONMENTAL PROTECTION AGENCY

FRL-6526-4]

Proposed CERCLA Administrative Cashout Settlement; Globaltex, LLC, d/b/a Bates of Maine, Bates Mill Superfund Site, Lewiston, Maine

AGENCY: Environmental Protection Aency.

ACTION: Notice of proposed settlement; request for public comment.

SUMMARY: In accordance with section 122(i) of the Comprehensive Environmental Response, Compensation, and Liability Act, as amended (“CERCLA”), 42 U.S.C. 9622(i), notice is hereby given of a proposed administrative settlement for recovery of past and projected future response costs concerning the Bates Mill Superfund Site in Lewiston, Maine with the following settling party: Globaltex, LLC, d/b/a Bates of Maine. The settlement requires the settling party to pay $10,000 to the Hazardous Substance Superfund plus an additional sum for interest on that amount calculated from April 29, 1999 through the date of payment. The settlement includes a covenant not to sue the settling party pursuant to sections 106 and 107(a) of CERCLA, 42 U.S.C. 9606 and 9607(a). For thirty (30) days following the date of publication of this document, the Agency will receive written comments relating to the settlement. The Agency will consider all comments received and may modify or withdraw its consent to the settlement if comments received disclose facts or considerations which indicate that the settlement is inappropriate, improper, or inadequate.

The Agency's response to any comments received will be available for public inspection at One Congress Street, Boston, MA 02214-2023.

DATES: Comments must be submitted on or before February 22, 2000.

ADDRESSES: Comments should be addressed to the Regional Hearing Clerk, U.S. Environmental Protection Agency, Region I, One Congress Street, Suite 1100, Mailcode RAA, Boston, Massachusetts 02203 and should refer to: In re: Bates Mill Superfund Site, U.S. EPA Docket No. I-99-0044.

FOR FURTHER INFORMATION CONTACT: A copy of the proposed settlement may be obtained from Kathleen Woodward, U.S. Environmental Protection Agency, Region I, Office of Environmental Stewardship, One Congress Street, Suite 1100, Mailcode SES, Boston, MA 02114-2023.

Dated: December 15, 1999.
Dennis Huebner,
Acting Director, Office of Site Remediation & Restoration.

[FR Doc. 00-1209 Filed 1-19-00; 8:45 am]

BILLING CODE 6560-50-M